DEPARTMENT OF TRANSPORTATION

National Highway Traffic Safety Administration

[Docket No. NHTSA-2017-0083]

Reports, Forms, and Recordkeeping Requirements

AGENCY: National Highway Traffic Safety Administration (NHTSA), Department of Transportation (DOT).

ACTION: Request for public comment on the modification of an existing collection of information.

SUMMARY: Before a Federal agency may collect certain information from the public, it must receive approval from the Office of Management and Budget (OMB). Under procedures established by the Paperwork Reduction Act of 1995, before seeking OMB approval, Federal agencies must solicit public comment on proposed collections of information, including extensions and reinstatements of previously approved collections. This document describes a modification of an existing collection of information for which NHTSA intends to seek OMB approval.

DATES: Comments must be received on or before November 14, 2017.

ADDRESSES: You may submit comments using any of the following methods:

Electronic submissions: Go to http://www.regulations.gov. Follow the online instructions for submitting comments.

Mail: Docket Management Facility, M-30, U.S. Department of Transportation, West Building, Ground Floor, 1200 New Jersey Ave. SE., Room W12-140, Washington, DC 20590.

Hand Delivery: West Building Ground Floor, Room W12-140, 1200 New Jersey Avenue SE., Washington, DC, between 9 a.m. and 5 p.m., Monday through Friday, except Federal holidays. Telephone (202) 366-9826; Fax: (202) 493-2251.

Instructions: Each submission must include the Agency name and the Docket number for this proposed collection of information. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

FOR FURTHER INFORMATION CONTACT: Ms. Debbie Sweet, NHTSA, 1200 New Jersey Avenue SE., Washington, DC 20590; Telephone (202) 366-7179; Fax: (202) 366-2106; email address: Debbie.Sweet@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must request public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collection of information:

Title: Automated Driving Systems 2.0: A Vision for Safety.

Type of Request: Modification of a currently approved information collection.

OMB Clearance Number: 2127-0723.

Form Number: None.

Requested Expiration Date of Approval: Three years from date of approval.

Summary of the collection of Information: In a separate notice published in the Federal Register today, the Department of Transportation is announcing the publication of the policy document ¹ titled Automated Driving Systems 2.0: A Vision for Safety. ² Recognizing the potential that highly Automated Driving Systems (ADSs) have to enhance safety and mobility, this document sets out an approach to enable the safe deployment of Automated Driving Systems ³ (SAE Automation Levels 3 through 5—Conditional, High, and Full Automation Systems as defined in SAE J3016).⁴

¹ Conformance to the guidance in Automated Driving Systems 2.0: A Vision for Safety is voluntary. See Fixing America's Surface Transportation Act, Public Law 114-94, § 24406 (2015) (“No guidelines issued by the Secretary with respect to motor vehicle safety shall confer any rights on any person, State, or locality, nor shall operate to bind the Secretary or any person to the approach recommended in such guidelines”).

² The policy document titled Automated Driving Systems 2.0: A Vision for Safety supersedes, in its entirety, the policy document published on September 20, 2016, titled Federal Automated Vehicles Policy.

³ In the Federal Automated Vehicles Policy, NHTSA used the terms Highly Automated Vehicles (HAVs) (Levels 3 through 5 vehicles) and L2 systems. Automated Driving Systems 2.0: A Vision for Safety only applies to Level 3 through 5 systems, reducing the number of respondents in this collection. Also, for consistency NHTSA now refers to SAE Level 3 through 5 systems as Automated Driving Systems (ADSs) instead of HAVs.

⁴ For more information about SAE J3016, see http://www.sae.org/misc/pdfs/automated_driving.pdf.

Consistent with its statutory purpose to reduce traffic accidents and deaths and injuries resulting from traffic accidents,⁵ NHTSA is amending its recommendations for recordkeeping and disclosure of information related to automated vehicle technologies by vehicle manufacturers and other entities as described in Automated Driving Systems 2.0: A Vision for Safety. Specifically, NHTSA recommends that manufacturers and other entities assess their ADS-equipped vehicle against specific safety elements, summarize that assessment, and then voluntarily disclose that summary as discussed in the section titled “Voluntary Guidance for Automated Driving Systems” (hereafter referred to as “Voluntary Guidance”). The Voluntary Guidance outlines recommended best practices, many of which should be commonplace in the industry, for the safe pre-deployment design, development, and testing of ADSs prior to commercial sale or operation on public roads. Further, the Voluntary Guidance identifies key areas manufacturers and other entities should consider prior to testing or deploying ADS on public roadways.

⁵ 49 U.S.C. § 30101.

To assist States and the public in understanding how safety is being considered by manufacturers and other entities developing and testing ADSs, NHTSA encourages documentation, recordkeeping, and disclosures that aid in that mission. The burden estimates contained in this notice are based on the Agency's present understanding of the ADS market and the time associated with following the Voluntary Guidance, generating a self-assessment, and voluntarily making a summary of that self-assessment public. NHTSA seeks comment on the burden estimates in this notice in whole or in part.

The manner by which NHTSA encourages ADS manufacturers and other entities to disclose information is through Voluntary Safety Self-Assessments for ADSs. The Voluntary Safety Self-Assessment would summarize how the manufacturer or other entity have considered the safety elements contained in the Voluntary Guidance as shown below:

• System Safety

• Operational Design Domain

• Object and Event Detection and Response

• Fallback (Minimal Risk Condition)

• Validation Methods

• Human Machine Interface

• Vehicle Cybersecurity

• Crashworthiness

• Post-Crash ADS Behavior

• Data Recording

• Consumer Education and Training

• Federal, State and Local Laws

The Agency expects much of the work associated with consideration of the safety element in the Voluntary Guidance to be an extension of good and safe engineering practices already in place. It therefore believes that manufacturers and other entities will have access to all the information needed to craft a Voluntary Safety Self-Assessment that discusses how the safety elements were considered and if they choose, release a summary of that assessment publicly. Of the manufacturers and other entities who voluntarily disclose this information, NHTSA anticipates that most manufacturers and other entities will post the disclosures online.

The safety elements are fully described in the Voluntary Guidance section (section I) of Automated Driving Systems 2.0: A Vision for Safety, as is the Voluntary Safety Self-Assessment. The Voluntary Safety Self-Assessment (including the public release of that summary assessment) is intended to communicate to the public (particularly States and consumers) that entities are (1) considering the safety aspects of ADSs; (2) communicating and collaborating with DOT; (3) encouraging the self-establishments of industry safety norms for ADSs; and (4) building public trust, acceptance, and confidence through transparent testing and deployment of ADSs. For each safety element laid out by the Voluntary Guidance, NHTSA encourages each manufacturer or entity to include an acknowledgement within the Voluntary Safety Self-Assessment that indicates either:

• This safety element was considered during product development efforts for the subject feature; or

• This safety element is not applicable to the subject product development effort.

Burden Calculations

There are currently 39 manufacturers that have registered with the State of California as licensed entities capable of testing automated systems.⁶ Previously, when NHTSA established this information collection, only 15 manufacturers had registered with the State of California. NHTSA expects that this number will continue to increase over the next three years, and for purposes of estimating the burden of this collection, NHTSA believes there will be 50 respondents annually during the three years covered by this information collection request. This increase takes into account the addition of new entrants as well as the fact that that many entities have already begun testing of automated vehicles and thus already included in this figure.

⁶ https://www.dmv.ca.gov/portal/dmv/detail/vr/autonomous/testing (last accessed September 5, 2017).

The adjustments from the previous approved collection are a result of the Voluntary Guidance reducing the number of priority safety design elements for consideration from 15 to 12 (removal of Privacy, Registration and Certification, and Ethical Considerations).⁷ It also removes the data sharing aspect of the Voluntary Guidance, and limits the scope of the Voluntary Guidance to SAE system Levels 3-5 instead of also including Level 2. The Voluntary Guidance encourages public disclosure rather than providing information to NTHSA; however, this change is not expected to change burden.

⁷ NHTSA acknowledges that Privacy and Ethical Considerations are also important elements for entities to deliberate. See NHTSA's Web site for the Agency's approach on each.

NHTSA expects the industry burden of following the Voluntary Guidance to be comprised of efforts entities would already incur in normal business operation and existing documentation; however, there may be an increased burden for documentation of procedures and some minor analysis or review. In calculating the burden for an entity to consider the safety elements in the Voluntary Guidance, NHTSA has adjusted its estimates in accordance with the new Voluntary Guidance from the original estimated annual burden of 1,630 hours for each reporting entity plus an additional 20 hours for select entities. By limiting the scope and safety elements in the Voluntary Guidance, the estimated annual burden for an entity to consider the safety elements in the Voluntary Guidance is now 835 hours.

In addition to the estimated annual burden associated with existing documentation and business operation to follow the Voluntary Guidance, disclosure of a Voluntary Safety Self-Assessment may involve additional burden for format and content adherence, varying by safety element. NHTSA estimates that each entity will spend an additional 600 hours to use the documentation recommendations contained in the Voluntary Guidance. This estimate of burden is comprised of efforts to transmit information from existing format into a summary format that would be consumable by the public, including data translation, analysis, and discussion of traditionally-technical information. This is a reduction from the original estimate of 1,380 burden hours per year.

Estimated Burden for This Collection: This estimated burden is a change from the previous collection, which estimated a total burden of 136,050 hours for 45 HAV manufacturers or entities responding and 45 L2 manufacturers or entities responding. As the new Voluntary Guidance does not contain any recommendations for documentation or disclosure for L2 manufacturers, NHTSA has removed estimates for L2 manufacturers, which the agency had estimated as leading to 1,375 burden hours per entity per year. NHTSA has also increased the estimated respondents for ADS (previously referred to as HAV) manufacturers or entities from 45 to 50 based on recent trends and has adjusted the burdens for each safety element based on the new Voluntary Guidance. NHTSA estimates the total burden associated with conforming with the documentation and disclosure recommendations contained in the Voluntary Guidance would be 1,435 hours per manufacturer or entity per year. NHTSA estimates that 50 manufacturers will conform with the recommendations contained in the Voluntary Guidance for a total burden of 71,750 hours. Assuming an average cost to manufacturers or entities of $100 per hour, the total estimated annual burden on all respondents to this collection is $7,175,000, which represents a net decrease of $6,430,000 from the prior approval.

The agency seeks comment on the estimated burden hours.

Authority: 44 U.S.C. Section 3506(c)(2)(A).

Nathaniel Beuse,
Associate Administrator for Vehicle Safety Research.

[FR Doc. 2017-19638 Filed 9-14-17; 8:45 am]

BILLING CODE 4910-59-P